Memorandum of January 31, 2013

Delegation of Authority To Suspend the Provisions of Title III of the Cuban Liberty and Democratic Solidarity (LIBERTAD) Act of 1996

Memorandum for the Secretary of State

By the authority vested in me as President by the Constitution and the laws of the United States of America, including section 301 of title 3 of the United States Code, I hereby delegate to you the authority to suspend the provisions of title III of the Cuban Liberty and Democratic Solidarity (LIBERTAD) Act of 1996 (Public Law 104-114; 22 U.S.C. 6021-6091), as authorized by section 306(c)(2) of the Act.

You are authorized and directed to publish this memorandum in the Federal Register.

THE WHITE HOUSE,

Washington, January 31, 2013.

[FR Doc. 2013-03110

Filed 2-7-13; 11:15 am]

Billing code 4710-10